NATIONAL TRANSPORTATION SAFETY BOARD

National Transportation Safety Board Forum

The National Transportation Safety Board (NTSB) will hold a 1-day forum to discuss the risks posed to pedestrians by highway travel. The event, “Pedestrian Safety,” will be held from 9 a.m. to 4:30 p.m. ET on May 10, 2016, in Washington, DC.

While the overall number of highway deaths has been decreasing in recent years, the number of pedestrian fatalities on public roads has increased 19 percent over the past 5 years. Estimates for 2015 pedestrian fatalities indicate that they may have been 10 percent higher than those in 2014. The NTSB meeting will provide an overview of pedestrian fatalities and injuries, and it will consider what data are needed to understand and address this growing safety problem. Unlike many highway projects that are federally funded and administered by states, many pedestrian infrastructure projects are managed at the urban and local levels. The forum will consider policy efforts to implement complete streets designed for all users. The forum will also consider highway design countermeasures intended to improve pedestrian safety. Vehicle technologies that can enhance pedestrian safety by mitigating or avoiding crashes will also be discussed.

The forum will feature presentations by urban planners, highway engineers, transportation policy advocates, and public health interests. Inquiries about the forum can be directed to pedestriansafety@ntsb.gov. The event will be held in the NTSB Board Room and Conference Center, located at 429 L'Enfant Plaza SW., Washington, DC. The forum is free and open to the public. Those intending to attend should register at www.ntsb.gov/pedestriansafety. In addition, the forum can be viewed via webcast here: http://ntsb.capitolconnection.org/. Several days after the conclusion of the forum, an archived webcast of it will be posted on the NTSB Web site and will be available for 90 days.

If you wish to obtain a copy of the forum webcast, please contact the NTSB Records Management Division at 202-314-6551 or 800-877-6799. You may also request this information from the NTSB Web site or by writing to the following address: National Transportation Safety Board, Records Management Division (CIO-40), 490 L'Enfant Plaza SW., Washington, DC 20594.

Individuals requiring reasonable accommodation and/or wheelchair access directions should contact Rochelle Hall at 202-314-6305 or by email at Rochelle.Hall@ntsb.gov by May 4, 2016.

NTSB Media Contact: Christopher O'Neil—christopher.oneil@ntsb.gov.

NTSB Forum Manager: Deborah Bruce—bruced@ntsb.gov.

Dated: April 21, 2016.
Candi R. Bing,
Federal Register Liaison Officer.

[FR Doc. 2016-09660 Filed 4-25-16; 8:45 am]

BILLING CODE P